DEPARTMENT OF COMMERCE

National Oceanic and Atmospheric Administration

50 CFR Part 679

[Docket No. 210217-0022]

RTID 0648-XB678

Fisheries of the Exclusive Economic Zone Off Alaska; Inseason Adjustment to the 2022 Bering Sea and Aleutian Islands Pollock, Atka Mackerel, and Pacific Cod Total Allowable Catch Amounts

AGENCY: National Marine Fisheries Service (NMFS), National Oceanic and Atmospheric Administration (NOAA), Commerce.

ACTION: Temporary rule; inseason adjustment; request for comments.

SUMMARY: NMFS is adjusting the 2022 total allowable catch (TAC) amounts for the Bering Sea and Aleutian Islands (BSAI) pollock, Atka mackerel, and Pacific cod fisheries. This action is necessary because NMFS has determined these TACs are incorrectly specified, and will ensure the BSAI pollock, Atka mackerel, and Pacific cod TACs are the appropriate amounts based on the best available scientific information. This action is consistent with the goals and objectives of the Fishery Management Plan for Groundfish of the Bering Sea and Aleutian Islands Management Area.

DATES: Effective 0001 hours, Alaska local time (A.l.t.), January 1, 2022, until the effective date of the final 2022 and 2023 harvest specifications for BSAI groundfish, unless otherwise modified or superseded through publication of a notification in the Federal Register.

Comments must be received at the following address no later than 4:30 p.m., A.l.t., January 14, 2022.

ADDRESSES: Submit comments on this document, identified by NOAA-NMFS-2020-0141, by either of the following methods:

• Electronic Submission: Submit all electronic public comments via the Federal e-Rulemaking Portal. Go to www.regulations.gov and enter NOAA-NMFS-2020-0141. Click the “Comment” icon, complete the required fields, and enter or attach your comments.

• Mail: Submit written comments to Glenn Merrill, Assistant Regional Administrator, Sustainable Fisheries Division, Alaska Region NMFS, Attn: Records Office. Mail comments to P.O. Box 21668, Juneau, AK 99802-1668.

Instructions: NMFS may not consider comments if they are sent by any other method, to any other address or individual, or received after the comment period ends. All comments received are a part of the public record, and NMFS will post the comments for public viewing on www.regulations.gov without change. All personal identifying information (e.g., name, address), confidential business information, or otherwise sensitive information submitted voluntarily by the sender will be publicly accessible. NMFS will accept anonymous comments (enter “N/A” in the required fields if you wish to remain anonymous).

FOR FURTHER INFORMATION CONTACT: Krista Milani, 907-581-2062.

SUPPLEMENTARY INFORMATION: NMFS manages the groundfish fishery in the BSAI exclusive economic zone according to the Fishery Management Plan for Groundfish of the Bering Sea and Aleutian Islands Management Area (FMP) prepared by the North Pacific Fishery Management Council (Council) under authority of the Magnuson-Stevens Fishery Conservation and Management Act. Regulations governing fishing by U.S. vessels in accordance with the FMP appear at subpart H of 50 CFR part 600 and 50 CFR part 679.

The final 2021 and 2022 harvest specifications for groundfish in the BSAI (86 FR 11449, February 25, 2021) set the 2022 Aleutian Islands (AI) pollock TAC at 19,000 metric tons (mt), the 2022 Bering Sea (BS) pollock TAC at 1,400,000 mt, the 2022 BSAI Atka mackerel TAC at 57,717 mt, the 2022 BS Pacific cod TAC at 95,053 mt, and the 2022 AI Pacific cod TAC at 13,796 mt. In December 2021, the Council recommended a 2022 BS pollock TAC of 1,111,000 mt, which is less than the 1,400,000 mt TAC established by the final 2021 and 2022 harvest specifications for groundfish in the BSAI. The Council also recommended a 2022 BSAI Atka mackerel TAC of 66,481 mt, which is more than the 57,717 mt TAC established by the final 2021 and 2022 harvest specifications for groundfish in the BSAI. Furthermore, the Council recommended a 2022 BS Pacific cod TAC of 136,466 mt, and an AI Pacific cod TAC of 13,796 mt, which is more than the BS Pacific cod TAC of 95,053 mt, and the same as the AI Pacific cod TAC of 13,796 mt established by the final 2021 and 2022 harvest specifications for groundfish in the BSAI. The Council's recommended 2022 TACs, and the area and seasonal apportionments, are based on the Stock Assessment and Fishery Evaluation report (SAFE), dated November 2021, which NMFS has determined is the best available scientific information for these fisheries.

Steller sea lions occur in the same location as the pollock, Atka mackerel, and Pacific cod fisheries and are listed as endangered under the Endangered Species Act (ESA). Pollock, Atka mackerel, and Pacific cod are a principal prey species for Steller sea lions in the BSAI. The seasonal apportionment of pollock, Atka mackerel, and Pacific cod harvest is necessary to ensure the groundfish fisheries are not likely to cause jeopardy of extinction or adverse modification of critical habitat for Steller sea lions. NMFS published regulations and the revised harvest limit amounts for pollock, Atka mackerel, and Pacific cod fisheries to implement Steller sea lion protection measures to insure that groundfish fisheries of the BSAI are not likely to jeopardize the continued existence of the western distinct population segment of Steller sea lions or destroy or adversely modify their designated critical habitat (79 FR 70286, November 25, 2014).

In accordance with § 679.25(a)(1)(iii), (a)(2)(i)(B), and (a)(2)(iv), the Administrator, Alaska Region, NMFS (Regional Administrator), has determined that, based on the November 2021 SAFE report for this fishery, the current BSAI pollock, Atka mackerel, and Pacific cod TACs are incorrectly specified. Pursuant to § 679.25(a)(1)(iii), the Regional Administrator is adjusting the 2022 BS pollock TAC to 1,111,000 mt, the 2022 BSAI Atka mackerel TAC to 66,481 mt, and the 2022 BS Pacific cod TAC to 136,466 mt. Therefore, Table 2 of the final 2021 and 2022 harvest specifications for groundfish in the BSAI (86 FR 11449, February 25, 2021) is revised consistent with this adjustment.

Pursuant to § 679.20(a)(5)(i) and (iii), Table 5 of the final 2021 and 2022 harvest specifications for groundfish in the BSAI (86 FR 11449, February 25, 2021) is revised for the 2022 BS and AI allocations of pollock TAC to the directed pollock fisheries and to the Community Development Quota (CDQ) directed fishing allowances consistent with this adjustment.

Table 5—Final 2022 Allocations of Pollock TACS to the Directed Pollock Fisheries and to the CDQ Directed Fishing Allowances (DFA) ¹
[Amounts are in metric tons]
Area and sector | 2022 allocations | 2022 A season ¹: A season DFA | 2022 A season ¹: SCA harvest limit ² | 2022 B season ¹: B season DFA
Bering Sea subarea TAC ¹ | 1,111,000 | n/a | n/a | n/a
CDQ DFA | 111,100 | 49,995 | 31,108 | 61,105
ICA ¹ | 49,500 | n/a | n/a | n/a
Total Bering Sea non-CDQ
DFA | 950,400 | 427,680 | 266,112 | 522,720
AFA Inshore | 475,200 | 213,840 | 133,056 | 261,360
AFA Catcher/Processors ³ | 380,160 | 171,072 | 106,445 | 209,088
Catch by CPs | 347,846 | 156,531 | n/a | 191,316
Catch by CVs ³ | 32,314 | 14,541 | n/a | 17,772
Unlisted CP Limit ⁴ | 1,901 | 855 | n/a | 1,045
AFA Motherships | 95,040 | 42,768 | 26,611 | 52,272
Excessive Harvesting Limit ⁵ | 166,320 | n/a | n/a | n/a
Excessive Processing Limit ⁶ | 285,120 | n/a | n/a | n/a
Aleutian Islands subarea ABC | 50,752 | n/a | n/a | n/a
Aleutian Islands subarea TAC ¹ | 19,000 | n/a | n/a | n/a
CDQ DFA | 1,900 | 1,900 | n/a
ICA | 2,500 | 1,250 | n/a | 1,250
Aleut Corporation | 14,600 | 14,600 | n/a
Area harvest limit ⁷ | n/a | n/a | n/a | n/a
541 | 15,226 | n/a | n/a | n/a
542 | 7,613 | n/a | n/a | n/a
543 | 2,538 | n/a | n/a | n/a
Bogoslof District ICA ⁸ | 250 | n/a | n/a | n/a
¹ Pursuant to § 679.20(a)(5)(i)(A), the Bering Sea subarea pollock TAC, after subtracting the CDQ DFA (10 percent) and the ICA (4 percent), is allocated as a DFA as follows: Inshore sector—50 percent, catcher/processor sector (CP)—40 percent, and mothership sector—10 percent. In the Bering Sea subarea, 45 percent of the DFA is allocated to the A season (January 20-June 10) and 55 percent of the DFA is allocated to the B season (June 10-November 1). Pursuant to § 679.20(a)(5)(iii)(B)(2)(i) through (iii), the annual Aleutian Islands subarea pollock TAC, after subtracting first for the CDQ DFA (10 percent) and second for the ICA (2,500 mt), is allocated to the Aleut Corporation for a pollock directed fishery. In the Aleutian Islands subarea, the A season is allocated up to 40 percent of the Aleutian Islands pollock ABC.
² In the Bering Sea subarea, pursuant to § 679.20(a)(5)(i)(C), no more than 28 percent of each sector's annual DFA may be taken from the SCA before noon, April 1.
³ Pursuant to § 679.20(a)(5)(i)(A)(4), 8.5 percent of the DFA allocated to listed CPs shall be available for harvest only by eligible catcher vessels with a CP endorsement delivering to listed CPs, unless there is a CP sector cooperative for the year.
⁴ Pursuant to § 679.20(a)(5)(i)(A)(4)(iii), the AFA unlisted catcher/processors are limited to harvesting not more than 0.5 percent of the catcher/processor sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(B), the Bogoslof District is closed to directed fishing for pollock. The amounts specified are for incidental catch only and are not apportioned by season or sector.
Note: Seasonal or sector apportionments may not total precisely due to rounding.

Pursuant to § 679.20(a)(8), Table 7 of the final 2021 and 2022 harvest specifications for groundfish in the BSAI (86 FR 11449, February 25, 2021) is revised for the 2022 seasonal and spatial allowances, gear shares, CDQ reserve, incidental catch allowance, jig, BSAI trawl limited access, and Amendment 80 allocations of the BSAI Atka mackerel TAC consistent with this adjustment.

Table 7—Final 2022 Seasonal and Spatial Allowances, Gear Shares, CDQ Reserve, Incidental Catch Allowance, and Amendment 80 Allocations of the BSAI ATKA Mackerel TAC
[Amounts are in metric tons]
Sector ¹ | Season ² ³ ⁴ | 2022 allocation by area: Eastern Aleutian District/ Bering Sea | 2022 allocation by area: Central Aleutian District ⁵ | 2022 allocation by area: Western Aleutian District
TAC | n/a | 27,260 | 16,880 | 22,341
CDQ reserve | Total | 2,917 | 1,806 | 2,390
| A | 1,458 | 903 | 1,195
| Critical Habitat | n/a | 542 | 717
| B | 1,458 | 903 | 1,195
| Critical Habitat | n/a | 542 | 717
Non-CDQ TAC | n/a | 24,343 | 15,074 | 19,951
ICA | Total | 800 | 75 | 20
Jig ⁶ | Total | 118
BSAI trawl limited access | Total | 2,343 | 1,500
| A | 1,171 | 750
| Critical Habitat | n/a | 450
| B | 1,171 | 750
| Critical Habitat | n/a | 450
Amendment 80 sector | Total | 21,083 | 13,499 | 19,931
| A | 10,541 | 6,749 | 9,965
| Critical Habitat | n/a | 4,050 | 5,979
| B | 10,541 | 6,749 | 9,965
| Critical Habitat | n/a | 4,050 | 5,979
¹ Section 679.20(a)(8)(ii) allocates the Atka mackerel TACs, after subtracting the CDQ reserves, jig gear allocation, and ICAs, to the Amendment 80 and BSAI trawl limited access sectors. The allocation of the iTAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion critical habitat; section 679.20(a)(8)(ii)(C)(1)(ii) equally divides the annual TACs between the A and B seasons as defined at § 679.23(e)(3); and section 679.20(a)(8)(ii)(C)(2) requires that the TAC in Area 543 shall be no more than 65 percent of ABC in Area 543.
⁶ Sections 679.2 and 679.20(a)(8)(i) require that up to 2 percent of the Eastern Aleutian District and the Bering Sea subarea TAC be allocated to jig gear after subtracting the CDQ reserve and the ICA. NMFS sets the amount of this allocation for 2022 at 0.5 percent. The jig gear allocation is not apportioned by season.
Note: Seasonal or sector apportionments may not total precisely due to rounding.

Pursuant to § 679.20(a)(7), Table 9 of the final 2021 and 2022 harvest specifications for groundfish in the BSAI (86 FR 11449, February 25, 2021) is revised for the 2022 gear shares and seasonal allowances of the BSAI Pacific cod TAC consistent with this adjustment.

Table 9—Final 2022 Sector Allocations and Seasonal Allowances of the BSAI Pacific Cod TAC
[Amounts are in metric tons]
Sector | Percent | 2022 share of total | 2022 share of sector total | 2022 seasonal apportionment: Season | 2022 seasonal apportionment: Amount
BS TAC | n/a | 136,466 | n/a | n/a | n/a
BS CDQ | n/a | 14,602 | n/a | see § 679.20(a)(7)(i)(B) | n/a
BS non-CDQ TAC | n/a | 121,864 | n/a | n/a | n/a
AI TAC | n/a | 13,796 | n/a | n/a | n/a
AI CDQ | n/a | 1,476 | n/a | see § 679.20(a)(7)(i)(B) | n/a
AI non-CDQ TAC | n/a | 12,320 | n/a | n/a | n/a
Western Aleutian Island Limit | n/a | 2,166 | n/a | n/a | n/a
Total BSAI non-CDQ TAC ¹ | 100 | 134,184 | n/a | n/a | n/a
Total hook-and-line/pot gear | 60.8 | 81,584 | n/a | n/a | n/a
Hook-and-line/pot ICA ² | n/a | 400 | n/a | see § 679.20(a)(7)(ii)(B) | n/a
Hook-and-line/pot sub-total | n/a | 81,184 | n/a | n/a | n/a
Hook-and-line catcher/processor | 48.7 | n/a | 65,027 | Jan 1-Jun 10 | 33,164
|  |  |  | Jun 10-Dec 31 | 31,863
Hook-and-line catcher vessel ≥60 ft LOA | 0.2 | n/a | 267 | Jan 1-Jun 10 | 136
|  |  |  | Jun 10-Dec 31 | 131
Pot catcher/processor | 1.5 | n/a | 2,003 | Jan 1-Jun 10 | 1,021
|  |  |  | Sept 1-Dec 31 | 981
Pot catcher vessel ≥60 ft LOA | 8.4 | n/a | 11,216 | Jan 1-Jun 10 | 5,720
|  |  |  | Sept 1-Dec 31 | 5,496
Catcher vessel <60 ft LOA using hook-and-line or pot gear | 2.0 | n/a | 2,671 | n/a | n/a
Trawl catcher vessel | 22.1 | 29,655 | n/a | Jan 20-Apr 1 | 21,944
|  |  |  | Apr 1-Jun 10 | 3,262
|  |  |  | Jun 10-Nov 1 | 4,448
AFA trawl catcher/processor | 2.3 | 3,086 | n/a | Jan 20-Apr 1 | 2,315
|  |  |  | Apr 1-Jun 10 | 772
|  |  |  | Jun 10-Nov 1
Amendment 80 | 13.4 | 17,981 | n/a | Jan 20-Apr 1 | 13,485
|  |  |  | Apr 1-Jun 10 | 4,495
|  |  |  | Jun 10-Dec 31
Jig | 1.4 | 1,879 | n/a | Jan 1-Apr 30 | 1,127
|  |  |  | Apr 30-Aug 31 | 376
|  |  |  | Aug 31-Dec 31 | 376
¹ The sector allocations and seasonal allowances for BSAI Pacific cod TAC are based on the sum of the BS and AI Pacific cod TACs, after the subtraction of the reserves for the CDQ Program. If the TAC for Pacific cod in either the AI or BS is or will be reached, then directed fishing for Pacific cod in that subarea will be prohibited, even if a BSAI allowance remains (§ 679.20(d)(1)(iii)).
² The ICA for the hook-and-line and pot sectors will be deducted from the aggregate portion of Pacific cod TAC allocated to the hook-and-line and pot sectors. The Regional Administrator approves an ICA of 400 mt for 2022 based on anticipated incidental catch in these fisheries.
Note: Seasonal or sector apportionments may not total precisely due to rounding.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would allow for harvests that exceed the appropriate allocations for pollock, Atka mackerel, and Pacific cod in the BSAI based on the best scientific information available. NMFS was unable to publish a notice providing time for public comment because the most recent, relevant data only became available as of December 23, 2021.

Without this inseason adjustment, NMFS could not allow the fishery for pollock, Atka mackerel, and Pacific cod in the BSAI to be harvested in an expedient manner and in accordance with the regulatory schedule. Under § 679.25(c)(2), interested persons are invited to submit written comments on this action to the above address until January 14, 2022.

Authority: 16 U.S.C. 1801 et seq.

Dated: December 27, 2021.
Karen Abrams,
Acting Director, Office of Sustainable Fisheries, National Marine Fisheries Service.

[FR Doc. 2021-28371 Filed 12-29-21; 8:45 am]

BILLING CODE 3510-22-P